DEPARTMENT OF COMMERCE

Foreign-Trade Zones Board

Order No. 1601

Approval of Manufacturing Authority, Within Foreign-Trade Zone 64, Jacksonville, Florida, Bacardi USA, Inc. (Alcoholic Beverages)

Pursuant to its authority under the Foreign-Trade Zones Act of June 18, 1934, as amended (19 U.S.C. 81a-81u), the Foreign-Trade Zones Board (the Board) adopts the following Order:

Whereas, the Jacksonville Port Authority, grantee of Foreign-Trade Zone 64, has requested authority under Section 400.28(a)(2) of the Board's regulations on behalf of Bacardi USA, Inc., solely for the kitting of alcoholic beverages into gift sets (i.e., does not involve authority for any type of manufacturing involving alcohol prohibited by the fifth proviso of section 81c of the FTZ Act) under FTZ procedures within FTZ 64 - Site 8, in Jacksonville, Florida (FTZ Docket 11-2008, filed 2/21/08);

Whereas, notice inviting public comment has been given in the Federal Register (73 FR 12374, 3/7/08);

Whereas, the Board adopts the findings and recommendations of the examiner's report, and finds that the requirements of the FTZ Act and the Board's regulations are satisfied, and that approval of the application is in the public interest;

Now, therefore, the Board hereby grants authority for the kitting of alcoholic beverages into gift sets within FTZ 64 - Site 8 on behalf of Bacardi USA, Inc., as described in the application and Federal Register notice, subject to the FTZ Act and the Board's regulations, including Section 400.28.

Signed at Washington, DC, this 30th day of January 2009.

Ronald K. Lorentzen,
Acting Assistant Secretary of Commerce for Import Administration, Alternate Chairman, Foreign-Trade Zones Board.
Attest:
Andrew McGilvray,
Executive Secretary.

[FR Doc. E9-2929 Filed 2-10-09; 8:45 am]

BILLING CODE 3510-DS-S